DEPARTMENT OF THE INTERIOR

National Park Service

60-Day Notice of Intention To Request Clearance of Collection of Information: Opportunity for Public Comment

AGENCY: Department of the Interior, National Park Service, Glacier National Park.

ACTION: Notice and request for comment.

SUMMARY: The National Park Service (NPS) is proposing to conduct research regarding the potential socio-economic impacts associated with reconstruction of Going-to-the-Sun Road in Glacier National Park. One component of this work is a proposal to conduct two surveys.

The Potential Visitor Survey will be conducted among potential visitors to Glacier National park. Potential visitors are those that have expressed interest in visiting Glacier National Park by making contact with a tourism development office managed or funded by the State of Montana. Survey respondents will be asked contingent behavior questions regarding travel to Glacier National Park if travel were hampered on Going-to-the-Sun Road. The survey will be conducted by telephone, mail or email, depending on data availability from the tourism development offices.

The Local Business Survey will be conducted among businesses in a local area (three counties in Montana plus a portion of Alberta, Canada) that are directly or indirectly impacted by tourism. Survey respondents will be asked questions regarding the seasonality of their business activity and employment, the impact of tourism and Glacier National Park on their business activity, potential socio-economic impacts, and mitigation strategies. The survey will be conducted by mail.

| Estimated numbers of: Burden | Estimated numbers of: Responses hours
Potential Visitor Survey | 400 | 67
Local Business Survey | 1,500 | 375
Total | 1,900 | 442

Under the provisions of the Paperwork Reduction Act of 1995 and 5 CFR part 1320, Reporting and Record Keeping Requirements, the National Park Service (NPS) is soliciting comments on the need for gathering the information in the proposed surveys. The NPS is also asking for comments on the practical utility of the information being gathered; the accuracy of the burden hour estimate; ways to enhance the quality, utility and clarity of the information to be collected; and ways to minimize the burden to respondents, including use of automated information collection techniques or other forms of information technology.

The NPS goal in conducting these surveys is to help describe and quantify potential socio-economic impacts of reconstruction alternatives for Going-to-the-Sun Road in Glacier National Park.

DATES: Public comments will be accepted on or before December 22, 2000.

Send Comments To: Fred Babb, Project Management, Glacier National Park, P.O. Box 128; West Glacier, MT 59936. fred_babb@nps.gov.

FOR FURTHER INFORMATION CONTACT: Jean Townsend, Coley/Forrest, Inc., 1635 Blake Street, Suite 200; Denver, CO 80202. jtownsend@coleyforrest.com

SUPPLEMENTARY INFORMATION: Title: Socio-Economic Impact Analysis of Going-to-the-Sun Road.

Bureau Form Number: None.

OMB Number: To be requested.

Expiration Date: To be requested.

Type of Request: Request for new clearance.

Description of Need: The National Park Service needs information to assess the potential socio-economic impacts of reconstruction alternatives for Going-to-the-Sun Road. Direct responses from potential visitors and from local businesses will provide quality information upon which to develop reliable analyses.

Automated Data Collection: At the present time, there is no automated way to gather this information because it involves communicating with the individual potential visitors and business owners.

Description of Respondents: Potential Visitor Survey: Potential visitors to Glacier National Park who have expressed interest through a tourism development office in the State of Montana. Local Business Survey: owners and managers of tourism-related businesses in Flathead, Glacier, and Lake counties of Montana plus a portion of Alberta, Canada. Tourism-related businesses will be identified by standard industrial classification code.

Estimated Number of Respondents: 400 (Potential Visitor Survey); 1,500 (Local Business Survey).

Estimated Number of Responses: Each respondent will respond one time only. The estimated number of responses is the same as the estimated number of respondents.

Estimated Average Burden Hours Per Response: 10 minutes (Potential Visitor Survey); 15 minutes (Local Business Survey).

Frequency of Response: 1 time per respondent.

Estimated Annual Reporting Hours: 67 hours (Potential Visitor Survey); 375 hours (Local Business Survey).

Dated: October 18, 2000.
Leonard E. Stowe,
Information Collection Clearance Officer, WASO, Administrative Program Center, National Park Service.

[FR Doc. 00-27176 Filed 10-20-00; 8:45 am]

BILLING CODE 4310-70-M